DEPARTMENT OF ENERGY

Federal Energy Regulatory Commission

[Docket No. RP01-12-000]

Arkansas Western Gas Company: Notice of Application for Rate Approval

May 4, 2001.

Take notice that on April 4, 2001, Arkansas Western Gas Company (AWGC) filed an application for rate approval, pursuant to Sections 284.224, and 284.123(b)(2) of the Commission's regulations, for rates to be charged for interruptible transportation services under its Order No. 63 blanket certificate. AWGC proposes a maximum interruptible rate for transportation on its northwest Arkansas system south of the Drake Compressor Station of $0.1278 per MMBtu, plus 3.57 percent reimbursement for compressor fuel, and lost and unaccounted for gas.

Pursuant to Section 284.1213(b)(2)(ii) of the Commission's regulations, if the Commission does not act within 150 days of the Application's filing date, the rates proposed therein will be deemed to be fair and equitable and not in excess of an amount that interstate pipelines would be permitted to charge for similar services. The Commission may, prior to the expiration of the 150-day period, extend the time for action or institute a proceeding.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before May 21, 2001. This petition for rate approval is on file with the commission and is available for public inspection. This filing may be viewed on the web at http://www.ferc.fed.us/online/rims.htm (call 202-208-2222 for assistance). Comments, protests, and interventions may be filed electronically via the internet in lieu of paper. See, 18 CFR 385.200(a)(1)(iii) and the instruction on the Commission's web site at http://www.ferc.fed.us.efi/doorbell.htm.

David P. Boergers,
Secretary.

[FR Doc. 01-11780 Filed 5-9-01; 8:45 am]

BILLING CODE 6717-01-M